MORRIS K. UDALL SCHOLARSHIP AND EXCELLENCE IN NATIONAL ENVIRONMENTAL POLICY FOUNDATION

Availability of Solicitation for Consensus Building Leader for Missouri River Recovery Implementation Committee

AGENCY: United States Institute for Environmental Conflict Resolution, Morris K. Udall Foundation.

ACTION: Notice of available solicitation.

SUMMARY: The U.S. Institute for Environmental Conflict Resolution (U.S. Institute) is soliciting expressions of interest, assurances of availability, statements of qualifications, and cost quotations from highly skilled individuals to provide consensus building services in the capacity of Chair of the Missouri River Recovery Implementation Committee (the Committee).

The Committee is a FACA-exempt, multi-stakeholder committee as described in Section 5018 of the Water Resources Development Act of 2007 (WRDA 2007), see http://www.mrric.org, composed of representatives from Federal agencies, States, tribes, and non-governmental and local governmental stakeholder interests in the basin. The Committee is a collaborative forum for providing consensus recommendations to the U.S. Army Corps of Engineers (USACE) and the U.S. Fish and Wildlife Service (USFWS) on endangered species recovery activities in the Missouri River Basin and the “study” outlined in WRDA 2007. The Chair will assist the Committee in consensus building efforts with support of a facilitation team contracted through the U.S. Institute.

The selected Chair will work in close partnership with the U.S. Institute and facilitation team, the Committee, and representatives from the lead agencies (USACE and USFWS) from May through December of 2009, to convene Committee meetings and support work group activities in order to provide consensus recommendations to the agencies. The work of the contracted Chair will be evaluated before the final Committee meeting of the year (November 2009). If the Committee, the U.S. Institute and the lead agencies agree, the contract will be extended for another year, contingent on the availability of funds from the lead agencies.

The solicitation may be accessed at: http://www.ecr.gov and at: http://www.mrric.org. This notice invites interested individuals to review the solicitation and provide a description of their services and expertise as described in the solicitation. If you do not have Internet access to the above sites and wish to receive the solicitation by e-mail, fax or U.S. mail please contact Sarah Palmer at the addresses below.

DATES: Materials must be submitted on or before 5 p.m. MST February 9, 2009.

ADDRESSES: You may submit materials by any of the following methods:

• E-mail: palmer@ecr.gov.

• Fax: 1-520-901-8557.

• Mail: U.S. Institute for Environmental Conflict Resolution; Attn: Sarah Palmer, 130 South Scott Avenue, Tucson, AZ 85701.

FOR FURTHER INFORMATION CONTACT: Sarah Palmer, Senior Program Manager, U.S. Institute for Environmental Conflict Resolution, 130 S. Scott Avenue, Tucson, AZ 85701, phone (520) 901-8556, fax (520) 901-8557, palmer@ecr.gov.

SUPPLEMENTARY INFORMATION: The U.S. Institute for Environmental Conflict Resolution is a Federal program established by the U.S. Congress to assist parties in resolving environmental, natural resource, and public lands conflicts. The U.S. Institute is part of the Morris K. Udall Foundation, an independent Federal agency of the executive branch overseen by a board of trustees appointed by the President. The U.S. Institute serves as an impartial, non-partisan institution providing professional expertise, services, and resources to all parties involved in such disputes, regardless of who initiates or pays for assistance. The U.S. Institute helps parties determine whether collaborative problem solving is appropriate for specific environmental conflicts, how and when to bring all the parties to the table, and whether a third-party facilitator or mediator might be helpful in assisting the parties in their efforts to reach consensus or to resolve the conflict. In addition, the U.S. Institute maintains a roster of qualified facilitators and mediators with substantial experience in environmental conflict resolution, and can help parties in selecting an appropriate neutral. For more information on the U.S. Institute, please visit http://www.ecr.gov.

Authority: 20 U.S.C. 5601 et seq.

Dated: January 16, 2009.
Ellen Wheeler,
Executive Director, Morris K. Udall Scholarship and Excellence in National Environmental Policy Foundation.

[FR Doc. E9-1622 Filed 1-23-09; 8:45 am]

BILLING CODE 6820-FN-P